DEPARTMENT OF COMMERCE

Foreign-Trade Zones Board

[Docket 67-2008]

Foreign-Trade Zone 125—South Bend, Indiana Application for Subzone Status Thor Industries, Inc. (Recreational Vehicle and Commercial Bus Manufacturing) Goshen, Elkhart, Topeka, Bristol, Middlebury, Syracuse, Nappanee, Howe, IN

An application has been submitted to the Foreign-Trade Zones Board (the Board) by the St. Joseph County Airport Authority, grantee of Foreign-Trade Zone (FTZ) 125, requesting special-purpose subzone status for the recreational vehicle and commercial bus manufacturing and distribution facilities of Thor Industries, Inc. (Thor) and its subsidiaries located in Goshen, Elkhart, Topeka, Bristol, Middlebury, Syracuse, Nappanee and Howe, Indiana. The application was submitted pursuant to the provisions of the Foreign-Trade Zones Act, as amended (19 U.S.C. 81a-81u), and the regulations of the Board (15 CFR Part 400). It was formally filed on December 4, 2008.

The Thor and subsidiary facilities (576 acres, 78 buildings, 5,400 employees) are located as follows: Elkhart—520 and 701 County Road 15, 604 Middleton Run Road, Bullard Road, 4210 and 4221 Pine Creek Road, 25161 Leer Road, 57941 Charlotte Avenue, 2850, 2929 and 2950 Gateway Drive, 1660 and 1730 Gateway Court, 2933, 2939 and 2946 Paul Drive, 2824 Jami Street, 52613 County Road 5, 0 County Road S; Goshen—2601, 2642, 2694, 2700, 2719, 2855, 2860 and 3246 Hackberry Drive, 2015, 2021, 2400 and 2431 Kercher Road, 2525 and 2530 Linden Drive, 2833 Sourwood Drive and Sourwood Land, 2420, 2425, 2442 and 2478 Davis Drive, 2769 Elders Drive, 2142 and 2145 Caragana Court, 0 Eisenhower Drive North, 2402 Dierdorf Road, 2639 and 2705 Lincoln Way; Bristol—700 South Division Street; Syracuse—813, 925 and 1000 West Brooklyn; Howe—7605 North Street and Road 9; Middlebury—965 North 1150 West; Topeka—300 and 305 Hawpatch Drive, 1100 and 1115 West Lake Street; Nappaanee—0 Tomahawk Trail, 365 and 656 North Delaware, and 0 Industrial Parkway. The facilities are used for the manufacture, testing, warehousing and distribution of various types of recreational vehicles, including motor homes, travel trailers and fifth wheels (HTSUS numbers 8703.23, 8703.24, 8703.31, 8703.32, 8703.33 and 8716.10) and commercial buses (HTSUS numbers 8702.10 and 8702.90). At full capacity the Thor facility can produce up to 9,800 motor homes, 119,000 travel trailers and fifth wheels and 1,800 buses annually. Imported components and raw materials account for approximately 57 percent of the finished products' value. Parts and components that may be imported into the proposed subzone for manufacturing include: Glues and adhesives; plastic tubes, pipes and hoses; plastic floor coverings; self-adhesive plastic sheets, film, foil, tape and strip; plastic baths, shower baths, sinks and washbasins; plastic lavatory seats and covers; plastic flushing cisterns; plastic fittings for furniture; other plastic articles; compounded rubber plates, sheet or strip; vulcanized rubber sheets, strip and rods; vulcanized rubber tubes, pipes and hoses with or without fittings; pneumatic rubber tires; vulcanized rubber floor coverings; vulcanized rubber gaskets, washers, seals and other articles; ceramic sinks, washbasins, baths, bowls, bidets, flush-tanks and urinals; safety glass; windshields; rear-view mirrors; glass-fiber sheets, webs, mattresses and mats; platinum wire cloth or grill catalysts; iron or steel sleeves, butt-weld fittings, elbows, flanges or other articles; self-tapping screws; iron or steel screws and bolts with or without washers; iron or steel hooks, rivets, cotters, cotter pins and washers; spring washers; leaf springs and leaves; helical springs; hair springs; copper, iron or steel nails, tacks and drawing pins; copper pot scourers, polishing pads and parts; aluminum tubes, pipes and pipe fittings; aluminum screws, screw hooks, nails, tacks, rivets, cotters, cotter pins and washers; base-metal locks; base-metal mountings, brackets, fittings and castors; iron or steel flexible tubing; fuel, lubricating and cooling pumps for internal combustion engines; air and vacuum pumps and their parts; air conditioning machines and parts; check valves; safety valves and relief valves; thermostatically-controlled valves and their parts; electric motors and generators; static converters; lead-acid storage batteries; starter motors and generators; other generators; lighting and visual-signaling equipment; sound-signaling equipment; windshield wipers, defrosters and demisters and their parts; microwave ovens; water heaters, ovens, stoves and ranges; electric sound amplifier sets and their parts; sound turntables; sound reproducing apparatus; television receivers; antennas and antenna reflectors; reception apparatus parts; burglar and fire alarms; circuit breakers; relays; optical fiber cables; electrical switches; lamp holders; electrical consoles; sealed-beam electrical lamps; halogen lamps; electrical discharge lamps and their parts; insulated wire cable with connectors; diesel-powered motor vehicle chassis not exceeding 5 metric tons; diesel-powered motor vehicle chassis exceeding 5 metric tons up to 20 metric tons; diesel-powered motor vehicle chassis exceeding 20 metric tons; spark-ignition internal combustion engine-powered motor vehicle chassis not exceeding 5 metric tons; spark-ignition internal combustion engine-powered motor vehicles exceeding 5 metric tons; road wheels and parts; trailers, semi-trailers and their parts; optical appliances and instruments; hydrometers, thermometers, pyrometers, barometers, hygrometers, psychrometers and their parts; gas or smoke analysis apparatus; speedometers, tachometers and stroboscopes; engine-testing equipment; voltage regulators and their parts; rubber or plastic mattresses; and, mattress supports. The duty rates on the imported components range from duty-free to 25 percent.

This application requests authority for Thor to conduct the manufacturing activity under FTZ procedures, which could exempt the company from customs duty payments on the imported components used in export production. Up to 5 percent of production could be exported. On domestic sales, the company could defer duty payment and choose the lower duty rate (duty-free to 5.7 percent) that applies to the finished products for the imported components used in manufacturing. Thor may also realize savings related to direct delivery and weekly customs entry procedures. The company would also realize savings on the elimination of duties on materials that become scrap/waste during manufacturing. The application indicates that the FTZ-related savings would improve the plant's international cost competitiveness.

In accordance with the Board's regulations, Christopher Kemp of the FTZ staff is designated examiner to investigate the application and report to the Board.

Public comment is invited from interested parties. Submissions (original and 3 copies) shall be addressed to the Board's Executive Secretary at the address listed below. The closing period for their receipt is February 17, 2009. Rebuttal comments in response to material submitted during the foregoing period may be submitted during the subsequent 15-day period (to March 2, 2009).

A copy of the application and accompanying exhibits will be available at each of the following addresses: The Saint Joseph County Airport Authority, 4477 Progress Drive, South Bend, Indiana 46628; and, Office of the Executive Secretary, Foreign-Trade Zones Board, Room 2111, U.S. Department of Commerce, 1401 Constitution Avenue, NW., Washington, DC 20230. FOR FURTHER INFORMATION CONTACT Christopher Kemp at christopher_kemp@ita.doc.gov or (202) 482-0862.

Dated: December 4, 2008.
Andrew McGilvray,
Executive Secretary.

[FR Doc. E8-29985 Filed 12-16-08; 8:45 am]

BILLING CODE 3510-DS-P